DEPARTMENT OF AGRICULTURE

Submission for OMB Review; Comment Request

April 21, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical or other technological collection techniques or other forms of information technology.

Comments regarding this information collection received by May 26, 2015 will be considered. Written comments should be addressed to: Desk Officer for Agriculture, Office of Information and Regulatory Affairs, Office of Management and Budget (OMB), New Executive Office Building, 725—17th Street NW., Washington, DC 20503. Commenters are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Feral Swine Survey.

OMB Control Number: 0535-NEW.

Summary of Collection: On February 3, 1999, Executive Order 13112 was signed by President Clinton establishing the National Invasive Species Council. The Executive Order requires that a Council of Departments dealing with invasive species be created. Currently there are 13 Departments and Agencies on the Council. A benchmark survey will be conducted in 2015 in the 11 States (Alabama, Arkansas, California, Florida, Georgia, Louisiana, North Carolina, Mississippi, Missouri, South Carolina, and Texas) that have high feral swine densities and a significant presence of corn, soybeans, wheat, rice, grain sorghum (Texas) and peanuts. Authority to collect these data is authorized under 7 U.S.C. 2204(a). Individually identifiable data collected under this authority are governed by Section 1770 of the Food Security Act of 1985, 7 U.S.C. 2276.

Need And Use of the Information: The purpose of the proposed survey is to develop a national estimate of the benefits and costs of feral swine damage and risks to agriculture, animal health, human health, and property. The initial survey will be used to create a benchmark for the monetary loss for all crops, livestock, and property caused by feral swine for producers of corn, soybeans, wheat, rice, grain sorghum (TX only) and peanuts in each of the survey states. Information on feral swine control costs including hunting, trapping, use of fencing, or the use of repellents and the total net income for allowing the hunting of feral swine on their operations will also be collected. Without this survey, it would be impossible to measure the current level of feral swine damage to American agriculture.

Description of Respondents: Farms.

Number of Respondents: 10,800.

Frequency of Responses: Reporting: Other (8 off qtr. months).

Total Burden Hours: 5,500.

Charlene Parker,
Departmental Information Collection Clearance Officer.

[FR Doc. 2015-09569 Filed 4-23-15; 8:45 am]

BILLING CODE 3410-20-P